DEPARTMENT OF TRANSPORTATION

Federal Aviation Administration

14 CFR Part 71

[Docket No. FAA-2018-0632; Airspace Docket No. 17-AWA-4]

RIN 2120-AA66

Amendment of Chicago Class B and Chicago Class C Airspace; Chicago, IL

AGENCY: Federal Aviation Administration (FAA), DOT.

ACTION: Final rule, technical amendment, correction.

SUMMARY: This action corrects a final rule published in the Federal Register of August 16, 2018, that amended the Chicago Class B and Chicago Class C airspace area descriptions by changing references to the Chicago O'Hare VHF Omnidirectional Range/Distance Measuring Equipment (VOR/DME) to “Point of Origin.” Additionally, the Chicago Class B and Chicago Class C airspace area descriptions were edited to reflect the Chicago Midway International Airport name change to match the current information in the FAA's aeronautical database. The Chicago Class B airspace description listed in the rule is corrected to reflect updated geographic coordinates for the Chicago O'Hare International Airport airport reference point (ARP), updated geographic coordinates for two points in the Area A description, and updated geographic coordinates for one point in the Area F description.

DATES: Effective date 0901 UTC, October 11, 2018. The Director of the Federal Register approves this incorporation by reference action under Title 1, Code of Federal Regulations, part 51, subject to the annual revision of FAA Order 7400.11 and publication of conforming amendments.

FOR FURTHER INFORMATION CONTACT: Colby Abbott, Airspace Policy Group, Office of Airspace Services, Federal Aviation Administration, 800 Independence Avenue SW, Washington, DC 20591; telephone: (202) 267-8783.

SUPPLEMENTARY INFORMATION:

History

The FAA published a final rule in the Federal Register for Docket No. FAA-2018-0632 (83 FR 40662, August 16, 2018), amending the Chicago Class B and Chicago Class C airspace area descriptions by changing references to the Chicago O'Hare VOR/DME to “Point of OrigiN” Additionally, the Chicago Class B and Chicago Class C airspace area descriptions were edited to reflect the Chicago Midway International Airport name change. Subsequent to publication, the FAA identified editorial errors in the Chicago Class B description to the geographic coordinates of the Chicago O'Hare International Airport ARP, the geographic coordinates to two points in Area A, and the geographic coordinates to one point in Area F. To accurately reflect the Chicago Class B airspace area on aeronautical charts and digital charting applications, this correction changes the geographic coordinates of the Chicago O'Hare International Airport ARP from “(lat. 41°58′38″ N, long. 87°54′29″ W)” to read “(lat. 41°58′28″ N, long. 87°54′24″ W)”; the geographic coordinates to two points in Area A from “(lat. 41°57′12″ N, long. 88°01′56″ W)” to read “(lat. 41°57′26″ N, long. 88°01′39″ W)” and from “(lat. 42°05′03″ N, long. 87°56′26″ W)” to read “(lat. 42°05′03″ N, long. 87°56′25″ W)”; and the geographic coordinates to one point in Area F from “(lat. 41°50′40″ N, long. 88°25′44″ W)” to read “(lat. 41°50′39″ N, long. 88°25′43″ W)”.

Correction to Final Rule

Accordingly, pursuant to the authority delegated to me, in the Federal Register of August 16, 2018 (83 FR 40662) FR Doc. 2018-17596, Amendment of Chicago Class B and Chicago Class C Airspace; Chicago, IL, is corrected as follows:

§ 71.1 [Amended]

AGL IL B Chicago, IL [Corrected]

On page 40664, column 1, line 33, under Chicago O'Hare International Airport (Primary Airport) remove the text that reads “(lat. 41°58′38″ N, long. 87°54′29″ W)” and add in its place “(lat. 41°58′28″ N, long. 87°54′24″ W)”.

On page 40664, column 1, line 51, under Area A remove the text that reads “(lat. 41°57′12″ N, long. 88°01′56″ W)” and add in its place “(lat. 41°57′26″ N, long. 88°01′39″ W)”.

On page 40664, column 1, lines 56 and 57, under Area A remove the text that reads “(lat. 42°05′03″ N, long. 87°56′26″ W)” and add in its place “(lat. 42°05′03″ N, long. 87°56′25″ W)”.

On page 40664, column 3, line 6, under Area F remove the text that reads “(lat. 41°50′40″ N, long. 88°25′44″ W)” and add in its place “(lat. 41°50′39″ N, long. 88°25′43″ W)”.

Issued in Washington, DC, on September 5, 2018.
Rodger A. Dean Jr.,
Manager, Airspace Policy Group.

[FR Doc. 2018-19729 Filed 9-12-18; 8:45 am]

BILLING CODE 4910-13-P